DEPARTMENT OF TRANSPORTATION

Federal Aviation Administration

Seventh Meeting: RTCA Special Committee 226, Audio Systems and Equipment

AGENCY: Federal Aviation Administration (FAA), U.S. Department of Transportation (DOT).

ACTION: Meeting Notice of RTCA Special Committee 226, Audio Systems and Equipment.

SUMMARY: The FAA is issuing this notice to advise the public of the sixth meeting of the RTCA Special Committee 226, Audio Systems and Equipment

DATES: The meeting will be held July 15-19, 2013 from 9:00 a.m.-5:00 p.m.

ADDRESSES: The meeting will be held at RTCA, 1150 18th Street NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org. In addition, Sophie Bouquet may be contacted directly at (202) 330-0663, email: sbousquet@rtca.org.

SUPPLEMENTARY INFORMATION: Pursuant to section 10(a) (2) of the Federal Advisory Committee Act (Pub. L. 92-463, 5 U.S.C., App.), notice is hereby given for a meeting of Special Committee 226. The agenda will include the following:

• Welcome and Administrative Remarks

• Introductions

• Agenda Overview

• Review previous action items from working groups

• Solicit proposals for further changes to DO-214

• Finish discussion on the following:

(a) A consistent method for testing of ANR headsets

(b) A consistent method for testing of Oxygen Mask Microphones

(c) RF susceptibility issues

(d) Absolute (envelope) delay

• Incorporate all changes into DO-214 draft

• Final review of DO-214 and draft updates/changes

• Review/Prepare draft for Final Review and Comment Release

• Review next steps and actions for next meeting

• Set next meeting dates

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 12, 2013.
Paige Williams,
Management Analyst, NextGen, Business Operations Group, Federal Aviation Administration.

[FR Doc. 2013-15136 Filed 6-24-13; 8:45 am]

BILLING CODE 4910-13-P